DEPARTMENT OF HEALTH AND HUMAN SERVICES

Health Resources and Services Administration

Notice of Availability of Draft Health Center Program Policy Guidance Regarding Services To Support Transitions in Care for Justice-Involved Individuals Reentering the Community

AGENCY: Health Resources and Services Administration (HRSA), Department of Health and Human Services (HHS).

ACTION: Request for public comment on draft Health Center Program policy guidance regarding services to support transitions in care for Justice-involved individuals reentering the community.

SUMMARY: HRSA is inviting public comment on the draft Health Center Program Policy Guidance Regarding Services to Support Transitions in Care for Justice-Involved Individuals Reentering the Community. The purpose of the draft Policy Information Notice (PIN) is to propose Health Center Program policy guidance for all health centers that apply for and receive federal award funds under the Health Center Program, as authorized by section 330 of the Public Health Service (PHS) Act (including sections 330(e), (g), (h), and (i)), as well as section 330 subrecipient organizations and Health Center Program look-alikes, to clarify the conditions under which they may provide certain health services as part of the Health Center Program scope of project to certain incarcerated/detained individuals. This draft PIN establishes policy guidance that identifies a set of health services that a health center may provide, the locations at which such services may be provided, the target population for such services (specifically, incarcerated/detained individuals who are scheduled for release from a carceral setting within 90 days), and other pertinent circumstances under which the health center may, on its own behalf and subject to all section 330 requirements, provide such services to justice-involved individuals reentering the community to support their care transition from the carceral setting to the community within the scope of their Health Center Program project.

DATES: Submit comments on or before June 14, 2024.

ADDRESSES: Electronic comments should be submitted through the HRSA Bureau of Primary Health Care Contact Form (https://hrsa.my.site.com/support/s/), “Comment on Draft Policy” under the “Policy” section. Comments should be submitted no later than 60 days after the publication date.

FOR FURTHER INFORMATION CONTACT: Jennifer Joseph, Office of Policy and Program Development Director, HRSA, at jjoseph@hrsa.gov and 301-594-4300.

SUPPLEMENTARY INFORMATION: HRSA provides grants to eligible applicants under section 330 of the PHS Act, as amended (42 U.S.C. 254b), to support the delivery of preventive and primary care services to the nation's underserved individuals and families. HRSA also certifies eligible applicants under the Health Center Look-Alike Program (see sections 1861(aa)(4)(B) and 1905(l)(2)(B) of the Social Security Act). Look-alikes do not receive Health Center Program funding but must meet the Health Center Program statutory and regulatory requirements. Nearly 1,400 Health Center Program-funded health centers and more than 100 Health Center Program look-alike organizations operate more than 15,000 service delivery sites that provide care to more than 30.5 million patients in every U.S. state, the District of Columbia, Puerto Rico, the U.S. Virgin Islands, and the Pacific Basin. Note that for the purposes of this document, the term “health center” refers to entities that receive a federal award under section 330 of the PHS Act, as amended, as well as subrecipients and organizations designated as look-alikes, unless otherwise stated.

Carole Johnson,
Administrator.

[FR Doc. 2024-07630 Filed 4-10-24; 8:45 am]

BILLING CODE 4165-15-P